DEPARTMENT OF THE INTERIOR

Fish and Wildlife Service

[FWS-R9-MB-2009-N108; 91100-3740-GRNT 7C]

Meeting Announcements: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) will also meet. This meeting is also open to the public, and interested persons may present oral or written statements.

DATES: Council: Meeting is July 8, 2009, 1-4 p.m. Advisory Group: July 9, 2009, 9 a.m. through 3 p.m. If you wish to present information at either meeting, contact Mike Johnson by June 23, 2009.

ADDRESSES: Both meetings will be held at the U.S. Fish and Wildlife Service National Conservation Training Center, 698 Conservation Way, Shepherdstown, WV 25443.

FOR FURTHER INFORMATION CONTACT: Mike Johnson, Council Coordinator and Advisory Group contact, by phone at (703) 358-1784; by e-mail at dbhc@fws.gov; or by U.S. mail at U.S. Fish and Wildlife Service, 4401 N. Fairfax Drive, Mail Stop MBSP 4075, Arlington, VA 22203.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA/Standard/US/Overview.shtm.

Proposals require a minimum of 50 percent non-Federal matching funds. The Council will consider U.S. Standard grant proposals at this meeting.

Advisory Group: The Advisory Group, named by the Secretary of the Interior under NMBCA (Pub. L. 106-247, 114 Stat. 593, July 20, 2000), will hold its meeting to advise the Director, Fish and Wildlife Service, on the strategic direction and management of the NMBCA program. Proposal due dates, application instructions, and eligibility requirements are available on the NMBCA Web site at http://www.fws.gov/birdhabitat/Grants/NMBCA/index.shtm.

Dated: May 26, 2009.
Paul Schmidt,
Assistant Director—Migratory Birds.

[FR Doc. E9-12795 Filed 6-1-09; 8:45 am]

BILLING CODE 4310-55-P